NUCLEAR REGULATORY COMMISSION

[Docket Nos. 50-317 and 50-318; NRC-2012-0045]

Calvert Cliffs Nuclear Power Plant, LLC; Notice of Withdrawal of Application for Amendment to Facility Operating License

The U.S. Nuclear Regulatory Commission (the Commission) has granted the request of Calvert Cliffs Nuclear Power Plant, LLC, the licensee, to withdraw its application dated October 25, 2010, for a proposed amendment to Renewed Facility Operating License Nos. DPR-53 and DPR-69 for the Calvert Cliffs Nuclear Plant, Units 1 and 2, respectively, located in Calvert County, Maryland.

The proposed amendment would have modified Technical Specification Limiting Condition for Operation 3.0.5 pertaining to returning equipment to operation under administrative controls for the purpose of demonstrating equipment operability.

The Commission had previously issued a Notice of Consideration of Issuance of Amendment published in the Federal Register on April 19, 2011 (76 FR 21919). However, by letter dated January 27, 2012, the licensee withdrew the proposed change.

For further details with respect to this action, see the application for amendment dated October 25, 2010 (Agencywide Documents Access and Management System Accession No. ML103010170), and the licensee's letter dated January 27, 2012 (ML12031A125), which withdrew the application for license amendment. Documents may be examined, and/or copied for a fee, at the NRC's Public Document Room (PDR), located at One White Flint North, Public File Area O1-F21, 11555 Rockville Pike (first floor), Rockville, Maryland. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR Reference staff by telephone at 1-800-397-4209, or 301-415-4737 or by email to pdr.resource@nrc.gov.

Dated at Rockville, Maryland, this 10th day of February 2012.
For the Nuclear Regulatory Commission.
Douglas V. Pickett,
Senior Project Manager, Plant Licensing Branch I-1, Division of Operating Reactor Licensing, Office of Nuclear Reactor Regulation.

[FR Doc. 2012-4232 Filed 2-22-12; 8:45 am]

BILLING CODE 7590-01-P